Proclamation 9336 of September 30, 2015

National Disability Employment Awareness Month, 2015

By the President of the United States of America

A Proclamation

A quarter century ago, our country took a major step toward fulfilling the fundamental American promises of equal access, equal opportunity, and equal respect for all when the Americans with Disabilities Act (ADA) was made the law of the land. While we have continued to make advancements that help uphold this basic belief, we must address the injustices that remain. During National Disability Employment Awareness Month, we celebrate the ways individuals with disabilities strengthen our workforce, our communities, and our country, and we recommit to cultivating an America where all people are able to build vibrant futures for themselves and for their families.

Americans with disabilities make up almost one-fifth of our population, but are unemployed at a rate that is twice that of people without disabilities; and for women and minorities with disabilities, the rates are even higher. Despite all they contribute to our society, people with disabilities still face discrimination by employers, limited access to skills training, and, too often, unfairly low expectations. As a Nation, we must continue to promote inclusion in the workplace and to tear down the barriers that remain—in hearts, in minds, and in policies—to the security and prosperity that stable jobs provide and that all our people deserve. And we must actively foster a culture in which individuals are supported and accepted for who they are and in which it is okay to disclose one's disability without fear of discrimination.

My Administration is working to make sure our country does not let the incredible talents of Americans with disabilities go to waste. We are working to strengthen protections against disability-based discrimination in the workplace and to expand employment possibilities for people with disabilities—and the Federal Government is leading by example. I have taken action to require agencies and Federal contractors to hire more people with disabilities—and thanks to these efforts, more Americans with disabilities are in Federal service than at any point in the last three decades.

I will continue fighting to widen pathways to opportunity for individuals with disabilities and supporting employers in their efforts to increase disability inclusion. The White House hosted a Summit on Disability and Employment earlier this year to provide businesses, philanthropies, and advocates with information on Federal resources for hiring disabled individuals. Last year, I was proud to sign the Workforce Innovation and Opportunity Act (WIOA), which encourages greater coordination across Federal, State, and local programs to expand access to high-quality workforce, education, and rehabilitation services. WIOA also helps youth with disabilities to receive extensive pre-employment transition services so they can find positions alongside people without disabilities and get paid above minimum wage. Additionally, last year I signed the Achieving a Better Life Experience (ABLE) Act, which allows eligible people with disabilities to establish tax-free savings accounts.

America is at its strongest when we harness the talents and celebrate the distinct gifts of all our people. This October, as we observe the 70th anniversary of National Disability Employment Awareness Month, let us pay tribute to all who fought for better laws, demanded better treatment, and overcame ignorance and indifference to make our Nation more perfect. In their honor, and for the betterment of generations of Americans to come, let us continue the work of removing obstacles to employment so every American has the chance to develop their skills and make their unique mark on the world we share.

NOW, THEREFORE, I, BARACK OBAMA, President of the United States of America, by virtue of the authority vested in me by the Constitution and the laws of the United States, do hereby proclaim October 2015 as National Disability Employment Awareness Month. I urge all Americans to embrace the talents and skills that individuals with disabilities bring to our workplaces and communities and to promote the right to equal employment opportunity for all people.

IN WITNESS WHEREOF, I have hereunto set my hand this thirtieth day of September, in the year of our Lord two thousand fifteen, and of the Independence of the United States of America the two hundred and fortieth.

[FR Doc. 2015-25475

Filed 10-2-15; 11:15 am]

Billing code 3295-F6-P